POSTAL SERVICE

39 CFR Part 111

Overweight Items

AGENCY: Postal Service™.

ACTION: Final rule.

SUMMARY: The Postal Service is amending Mailing Standards of the United States Postal Service, Domestic Mail Manual (DMM®) to implement a process to remove overweight items from the postal network.

DATES: Effective Date: August 29, 2018.

FOR FURTHER INFORMATION CONTACT: Lizbeth Dobbins at (202) 268-3789 or Garry Rodriguez at (202) 268-7261.

SUPPLEMENTARY INFORMATION: The Postal Service published a notice of proposed rulemaking on April 20, 2018, (83 FR 17518-17519) to amend the DMM to add a process, which included a fee, for removing overweight items that are found in the postal network. Items that exceed the 70 pound weight limit are nonmailable and are not provided service.

The Postal Service received 2 formal responses to the proposed rule, one of which included multiple comments.

Both responses were in agreement with enforcing the 70 pound weight restriction. However, the second responder had several comments, as follows:

Comment: The responder felt it was unclear whether the fee would be imposed on the appropriate party, specifically in regards to returns.

Response: The Postal Service is deferring implementation of the fee at this time. When the fee is implemented, the Postal Service expects that, in most instances, including returns, the fee will be requested of the sender. However, certain circumstances (e.g., when the sender is unknown) may require the fee to be requested from the receiver. Customers (sender, receiver) have the responsibility to communicate with each other to determine who is liable for the fee payment.

Comment: The second comment questioned the application of the fee and provided a hypothetical where the error was a result of an inaccurate Post Office scale.

Response: Post Office scales are calibrated daily. Customers may request a “sight” verification at the facility where the item was secured.

Comment: The third comment questioned the $100 fee and whether it could be construed as a price requiring additional approval.

Response: The fee determination will be made at a later date.

At this time, the Postal Service is implementing the process for removing items over the 70 pound maximum weight limit for Priority Mail Express®, Priority Mail®, USPS Retail Ground®, Media Mail®, Library Mail, Parcel Select®, and Parcel Return Service. Hazardous materials exceeding the applicable maximum weight limits discovered in the postal network may be subject to a civil penalty under 39 U.S.C. 3018.

Once the overweight item is identified, it will be secured and either the sender or receiver will be contacted to pick up the item within 14 calendar days. An overweight item not picked up within the 14 calendar day timeframe will be considered abandoned and disposed of at the Postal Service's discretion. Any amounts paid as purported postage and any fees would not be refundable.

The Postal Service is still determining the appropriate fee. However, because the safety of our employees is paramount, the Postal Service is moving forward immediately with implementing the process for intercepting and holding overweight items for pickup by mailers, without assessing a fee. The Postal Service will publish details regarding the fee in another Federal Register notice, once a final determination on the fee has been made.

This revision will ensure the safety of our employees while providing a superb customer experience from sender to receiver.

The Postal Service adopts the following changes to Mailing Standards of the United States Postal Service, Domestic Mail Manual (DMM), incorporated by reference in the Code of Federal Regulations. See 39 CFR 111.1. We will publish an appropriate amendment to 39 CFR part 111 to reflect these changes.

Accordingly, 39 CFR part 111 is amended as follows:

List of Subjects in 39 CFR Part 111

Administrative practice and procedure, Incorporation by reference, Postal Service.

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

600 Basic Standards for All Mailing Services

601 Mailability

1.0 General Standards

* * * * *

[Renumber 1.2 and 1.3 as 1.3 and 1.4 and add new 1.2 to read as follows:]

1.2 Overweight Items

The maximum Postal Service mailpiece weight limit is 70 pounds, lower weight limits may apply. Any Priority Mail Express, Priority Mail, USPS Retail Ground, Media Mail, Library Mail, Parcel Select, and Parcel Return Service item exceeding the 70 pound Postal Service maximum weight limit is nonmailable and if found in the postal network will be secured at the facility identifying the ineligible item for pick-up by the mailer or addressee.

* * * * *

604 Postage Payment Methods and Refunds

* * * * *

9.0 Exchanges and Refunds

* * * * *

9.2 Postage and Fee Refunds

* * * * *

9.2.4 Postage and Fee Refunds Not Available

Refunds are not made for the following:

* * * * *

[Revise the text of 9.2.4 by adding a new item i to read as follows:]

i. For any amounts paid as purported postage and any fees on overweight items that are nonmailable under 601.1.2.

* * * * *

Brittany M. Johnson,
Attorney, Federal Compliance.

[FR Doc. 2018-18481 Filed 8-28-18; 8:45 am]

BILLING CODE 7710-12-P